DEPARTMENT OF STATE

[Public Notice: 6179]

U.S. National Commission for UNESCO Notice of Teleconference Meeting

The U.S. National Commission for UNESCO will hold a conference call on Friday, May 2, 2008, beginning at 11 a.m. Eastern Time. The teleconference meeting will be closed to the public to allow the Commission to discuss applications for the U.S. National Commission for UNESCO Laura W. Bush Traveling Fellowship, a fellowship funded through privately donated funds. This call will be closed pursuant to section 10(d) of the Federal Advisory Committee Act and 5 U.S.C. 552b(c)(6) because it is likely to involve discussion of information of a personal nature regarding the relative merits of individual applicants where disclosure would constitute a clearly unwarranted invasion of personal privacy.

For more information contact Susanna Connaughton, Executive Director of the U.S. National Commission for UNESCO, Washington, DC 20037. Telephone: (202) 663-0026; Fax: (202) 663-0035; E-mail: DCUNESCO@state.gov.

Dated: April 14, 2008.
Susanna Connaughton,
Executive Director, U.S. National Commission for UNESCO, Department of State.

[FR Doc. E8-8687 Filed 4-21-08; 8:45 am]

BILLING CODE 4710-19-P